DEPARTMENT OF HOMELAND SECURITY

Federal Emergency Management Agency

[Docket ID FEMA-2010-0004]

National Disaster Recovery Framework

AGENCY: Federal Emergency Management Agency, DHS.

ACTION: Notice of availability; request for comments.

SUMMARY: The Federal Emergency Management Agency (FEMA), in coordination with the interagency Long Term Disaster Recovery Working Group, is accepting comments on the draft National Disaster Recovery Framework (NDRF). The NDRF is intended to work in concert with the National Response Framework to provide organizing constructs and principles solely focused on disaster recovery. Recognizing the continuum between preparedness, response, recovery, and mitigation, the NDRF transitions with and continues beyond the scope of the National Response Framework.

DATES: Comments must be received by February 26, 2010.

ADDRESSES: Comments must be identified by docket ID FEMA-2010-0004 and may be submitted by one of the following methods:

Federal eRulemaking Portal: http://www.regulations.gov. Follow the instructions for submitting comments. Please note that this proposed policy is not a rulemaking and the Federal Rulemaking Portal is being utilized only as a mechanism for receiving comments.

Mail: Regulation & Policy Team, Office of Chief Counsel, Federal Emergency Management Agency, Room 835, 500 C Street, SW., Washington, DC 20472-3100.

FOR FURTHER INFORMATION CONTACT: Gerilee Bennett, Planning Branch Chief, Recovery Directorate, Federal Emergency Management Agency, 500 C Street, SW., Washington, DC 20472, 202-646-4173.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of http://www.regulations.gov.

You may submit your comments and material by the methods specified in the ADDRESSES section above. Please submit your comments and any supporting material by only one means to avoid the receipt and review of duplicate submissions.

Docket: The proposed policy is available in docket ID FEMA-2010-0004. For access to the docket to read background documents or comments received, go to the Federal eRulemaking Portal at http://www.regulations.gov and search for the docket ID.

II. Background

The draft National Disaster Recovery Framework (NDRF) addresses the short, intermediate, and long-term challenges of managing disaster recovery. Like the National Response Framework (NRF), the NDRF is intended to address all hazards events, whether natural or man-made and provide constructs that are scalable, adaptable, and responsive to the changing needs of different disasters. In recognizing the continuum between preparedness, response, recovery, and mitigation, the draft NDRF is intended to overlap and continue beyond the scope of the NRF.

This opportunity for public comment on the draft NDRF is a continuation of an extensive engagement effort undertaken by the interagency Long Term Disaster Recovery Working Group established by the President in October 2009, and co-chaired by the Secretaries of the Departments of Homeland Security and Housing and Urban Development. During the fall of 2009, DHS/FEMA and HUD sponsored outreach sessions in each of FEMA's ten regions and stakeholder forums in five cities across the nation to provide stakeholders from a wide array of organizations and backgrounds the opportunity to provide up-front input to the Working Group on ways to strengthen disaster recovery. DHS/FEMA and HUD also organized discussion roundtables with professional associations and academic experts. The Long-term Disaster Recovery Working Group also created a Web portal, http://www.disasterrecoveryworkinggroup.gov, which enabled a large and diverse group of stakeholders to provide input. Over six hundred stakeholders representing local, state, tribal and federal government, as well as public and private sector organizations contributed more than six thousand responses from across the nation. FEMA, HUD, and the Federal interagency partners on the Working Group have reviewed this stakeholder feedback and used it to inform development of the draft NDRF. We now seek direct feedback on the draft NDRF itself through this public comment period. The Long Term Disaster Recovery Working Group is also preparing a Report to the President for delivery in early April that will document the Working Group's overall findings and recommendations.

The draft NDRF provides recovery concepts and principles important to all disaster recovery stakeholders. It provides guidance to stakeholders for engaging in pre-disaster recovery planning and other recovery preparedness and resiliency building efforts; clarifies roles for local, state, tribal and Federal governments, private-non-profit and private sector organizations; provides guidance for facilitating post-disaster recovery planning to expedite long-term disaster recovery; and provides assistance to stakeholders in identifying recovery needs beyond replacement or return to pre-disaster condition. The document also provides guidance that impacted communities may use to develop recovery priorities, and measure recovery progress and outcomes against their agreed-upon objectives. It also provides guidance for both government and non-governmental organizations providing recovery assistance to track progress, ensure accountability, and make adjustments to ongoing assistance.

The draft NDRF lays out a systematic approach to disaster recovery, applicable to all levels of government and sectors of communities with recovery responsibilities. The draft NDRF is a guidance document. It does not have the force or effect of law.

FEMA seeks comment on the draft NDRF, which is available online at http://www.regulations.gov in docket ID FEMA-2010-0004. Although FEMA seeks comments on all aspects of the document, we are particularly interested in receiving input on whether the document's outline of the relationship between the existing Emergency Support Functions and the proposed Recovery Support Functions is clear. Based on the comments received, FEMA may make appropriate revisions to the NDRF. Although FEMA will consider any comments received in the drafting of the final document, FEMA will not provide a response to comments document. When or if FEMA issues a final NDRF, FEMA will publish a notice of availability in the Federal Register and make the final NDRF available at http://www.regulations.gov. The final policy will not have the force or effect of law.

The NRF, which was issued January 22, 2008 and went into effect on March 22, 2008, may also assist you in your review of the draft NDRF. The NRF was also posted for public comment before release. The NRF may be found on http://www.regulations.gov by searching for docket ID FEMA-2007-0007.

Authority: 42 U.S.C. 5121-5207, and 6 U.S.C. 771.

Dated: February 5, 2010.
W. Craig Fugate,
Administrator, Federal Emergency Management Agency.

[FR Doc. 2010-2970 Filed 2-9-10; 8:45 am]

BILLING CODE 9111-23-P